ENVIRONMENTAL PROTECTION AGENCY

[EPA-HQ-OPP-2020-0060; FRL-10016-15]

Notice of Receipt of Requests to Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before March 12, 2021.

ADDRESSES: Submit your comments, identified by docket identification (ID) number EPA-HQ-OPP-2020-0060, by one of the following methods:

Federal eRulemaking Portal: http://www.regulations.gov. Follow the online instructions for submitting comments. Do not submit electronically any information you consider to be Confidential Business Information (CBI) or other information whose disclosure is restricted by statute.

Mail: OPP Docket, Environmental Protection Agency Docket Center (EPA/DC), (28221T), 1200 Pennsylvania Ave. NW, Washington, DC 20460-0001.

Submit written withdrawal request by mail: Christopher Green, Registration Division (7502P), Office of Pesticide Programs, Environmental Protection Agency, 1200 Pennsylvania Ave. NW, Washington, DC 20460-0001.

Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products and amend product registrations to terminate certain uses registered under FIFRA section 3 (7 U.S.C. 136a) or 24(c) (7 U.S.C. 136v(c)). The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
106-44 | 106 | Brulin CDQ | Alkyl* dimethyl benzyl ammonium chloride *(60%C14, 30%C16, 5%C18, 5%C12) & Alkyl* dimethyl ethylbenzyl ammonium chloride *(68%C12, 32%C14).
228-688 | 228 | NuFarm Chlormequat Pro Plant Growth Regulator (Active); NuFarm Chlormequat SPC Plant Growth (Alternate) | Chlormequat chloride.
241-260 | 241 | Amdro Granular Insecticide | Hydramethylnon.
241-261 | 241 | Amdro 20 Fireant Insecticide | Hydramethylnon.
241-371 | 241 | Sensible Termiticide Bait | Hydramethylnon.
279-3615 | 279 | F4189-1 | Thiamethoxam; Metalaxyl-M; Difenoconazole; Tebuconazole & Thiophanate-methyl.
352-832 | 352 | Dupont DPX-B2856 3.0 Herbicide | Glyphosate-isopropylammonium.
499-530 | 499 | TC-250 | Hydramethylnon.
1007-99 | 1007 | Nolvasan Solution | Chlorhexidine diacetate.
1007-100 | 1007 | Fort Dodge Nolvasan S (Active); Nolvasan S (Alternate) | Chlorhexidine diacetate.
1007-101 | 1007 | Chlorhexidine Diacetate | Chlorhexidine diacetate.
1043-87 | 1043 | Vesphene II Se | 4-tert-Amylphenol & o-Phenylphenol (NO INERT USE).
1043-91 | 1043 | LPH Master Product | 4-tert-Amylphenol & o-Phenylphenol (NO INERT USE).
1043-92 | 1043 | LPH SE | 4-tert-Amylphenol & o-Phenylphenol (NO INERT USE).
1258-997 | 1258 | Pace Pool Chlorinating Type E Cartridge | Trichloro-s-triazinetrione.
1258-1083 | 1258 | Constant Chlor Universal Refillable Cartridge for Floaters and Feeder | Trichloro-s-triazinetrione.
1258-1133 | 1258 | Pace Disposable Floating Cartridge | Trichloro-s-triazinetrione.
1258-1271 | 1258 | Pool Breeze Pool Care System 3” Chlorinating Tablets | Trichloro-s-triazinetrione.
1258-1282 | 1258 | Pool Breeze Pool Care System 1” Chlorinating Tablets | Trichloro-s-triazinetrione.
1381-213 | 1381 | Daze 50WP | Thidiazuron.
1448-428 | 1448 | GBCH | 2,4-Imidazolidinedione, 1-bromo-3-chloro-5,5-dimethyl-.
2693-46 | 2693 | Mil-P-15931B Formula 121/63 Antifouling Paint Vinyl Red | Cuprous oxide.
2693-56 | 2693 | Mil-P-16189B Formula 129/63 Antifouling Paint, Vinyl Black | Cuprous oxide.
6836-202 | 6836 | Barquat MM-45 | Alkyl* dimethyl benzyl ammonium chloride *(100% C14).
7364-43 | 7364 | Chlorination Tablets Float Canister | Trichloro-s-triazinetrione.
7364-44 | 7364 | Tabex Chlorination Tablets Feeder Canister | Trichloro-s-triazinetrione.
7364-49 | 7364 | Tabex Replacement Chlorinating Canister | Trichloro-s-triazinetrione.
9688-286 | 9688 | Chemsico Brush Killer Concentrate II | 2,4-D, 2-ethylhexyl ester; Dicamba & 2,4-DP-p, 2-ethylhexyl ester.
10807-177 | 10807 | Misty II Disinfectant & Deodorant | Ethanol; 4-tert-Amylphenol & o-Phenylphenol (NO INERT USE).
35935-62 | 35935 | ET-012 (Active); Chlormequat Chloride Technical (Alternate) | Chlormequat chloride.
35935-114 | 35935 | Imazethapyr Technical | Imazethapyr.
52287-15 | 52287 | Harrell's Granular Herbicide 75 | Trifluralin & Oxyfluorfen.
55146-42 | 55146 | Algae-RHAP CU-7 Liquid Copper Algaecide | Copper sulfate pentahydrate.
55146-72 | 55146 | Agri Tin Agricultural Fungicide | Fentin hydroxide.
62719-322 | 62719 | NAF-545 | Glyphosate-isopropylammonium.
62719-323 | 62719 | Glyphomax | Glyphosate-isopropylammonium.
62719-345 | 62719 | Erase Blue | Glyphosate-isopropylammonium.
62719-361 | 62719 | Glyphosate 18% Concentrate Grass and Weed Killer | Glyphosate-isopropylammonium.
62719-362 | 62719 | Glyphosate 0.96% RTU | Glyphosate-isopropylammonium.
62719-366 | 62719 | Glymix MT | 2,4-D, isopropylamine salt & Glyphosate-isopropylammonium.
62719-448 | 62719 | Rawhide 4F Herbicide | Glyphosate-isopropylammonium & Oxyfluorfen.
62719-481 | 62719 | Glyphosate 1.92% RTU | Glyphosate-isopropylammonium.
62719-495 | 62719 | Glyphosate 41% Concentrate | Glyphosate-isopropylammonium.
62719-496 | 62719 | GF-887 | Glyphosate-isopropylammonium.
62719-509 | 62719 | GF-772 | Glyphosate-isopropylammonium.
62719-517 | 62719 | GF-1279 | Glyphosate-isopropylammonium.
62719-614 | 62719 | Firststep Herbicide Tank Mix | Glycine, N-(phosphonomethyl)-, compd. with N-methylmethanamine (1:1) & Florasulam.
62719-673 | 62719 | GF-2726 SR | Glycine, N-(phosphonomethyl)-, compd. with N-methylmethanamine (1:1) & 2,4-D, Choline salt.
66570-2 | 66570 | Effersan | Sodium dichloro-s-triazinetrione.
67543-7 | 67543 | Super KL | Cuprous oxide.
70644-8 | 70644 | Bio-Blast Biological Termiticide | Metarhizium anisopliae Strain ESF1.
75801-1 | 75801 | Spot-Less Biofungicide | Pseudomonas aureofaciens strain Tx-1.
87290-3 | 87290 | Willowood Pronamide 50WSP | Propyzamide.
94483-1 | 94483 | Lment Mesotrione Technical | Mesotrione.
AZ-150001 | 8033 | Assail 70WP Insecticide | Acetamiprid.
AZ-170004 | 70506 | Assail 30 SG Insecticide | Acetamiprid.

Table 2—Product Registrations With Pending Requests for Amendment
Registration No. | Company No. | Product name | Active ingredient | Uses to be terminated
1448-29 | 1448 | TCMTB | 2-(Thiocyanomethylthio)benzothiazole | Seed treatment.
1448-403 | 1448 | TCMTB 150 | 2-(Thiocyanomethylthio)benzothiazole | Seed treatment.
1448-405 | 1448 | TCMTB-DM | 2-(Thiocyanomethylthio)benzothiazole | Seed treatment.
40230-1 | 40230 | Galltrol-A | Agrobacterium radiobacter (strain K84) | Grapes.
64405-29 | 64405 | Copper 8-Quinolinolate | Copper, bis(8-quinolinolato-N1,O8)-, | In-can paint preservative.

Table 3 of this unit includes the names and addresses of record for all the registrants of the products listed in Tables 1 & 2 of this unit, in sequence by EPA company number. This number corresponds to the first part of the EPA registration numbers of the products listed in Table 1 and Table 2 of this unit.

Table 3—Registrants Requesting Voluntary Cancellation and/or Amendments
EPA company No. | Company name and address
106 | Brulin & Company Inc., P.O. Box 270, Indianapolis, IN 46206.
228 | NuFarm Americas, Inc., 4020 Aerial Center Pkwy., Ste. 101, Morrisville, NC 27560.
241 | BASF Corporation, 26 Davis Drive, P.O. Box 13528, Research Triangle Park, NC 27709-3528.
279 | FMC Corporation, 2929 Walnut Street, Philadelphia, PA 19104.
352 | E. I. Du Pont De Nemours and Company, 9330 Zionsville Road, Indianapolis, IN 46268.
499 | BASF Corporation, 26 Davis Drive, P.O. Box 13528, Research Triangle Park, NC 27709-3528.
1007 | Zoetis, Inc., 333 Portage Street, Kalamazoo, MI 49007-4931.
1043 | Steris Corporation, P.O. Box 147, St. Louis, MO 63166-0147.
1258 | Arch Chemicals, Inc., 1200 Bluegrass Lakes Parkway, Alpharetta, GA 30004.
1381 | Winfield Solutions, LLC, P.O. Box 64589, St. Paul, MN 55164-0589.
1448 | Buckman Laboratories, Inc., 1256 North Mclean Blvd, Memphis, TN 38108.
2693 | International Paint, LLC, 6001 Antoine Drive, Houston, TX 77091.
6836 | Lonza, LLC, 412 Mount Kemble Avenue, Suite 200S, Morristown, NJ 07960.
7364 | Innovative Water Care, LLC, d/b/a GLB Pool & Spa, 1400 Bluegrass Lakes Parkway, Alpharetta, GA 30004.
8033 | Nippon Soda Co., Ltd., Agent Name: Nisso America, Inc., 379 Thornall Street, 5th Floor, Edison, NJ 08837.
9688 | Chemsico, A Division of United Industries Corp., P.O. Box 142642, St. Louis, MO 63114-0642.
10807 | AMREP, Inc., Agent Name: Zep, Inc., c/o Compliance Services, 3330 Cumberland Blvd., Suite 700, Atlanta, GA 30339.
35935 | NuFarm Limited, Agent Name: NuFarm Americas, Inc., 4020 Aerial Center Pkwy., Ste 101, Morrisville, NC 27560.
40230 | AgBiochem, Inc., 3750 North 1020 East, Provo, UT 84604.
52287 | Harrell's, LLC, P.O. Box 807, Lakeland, FL 33802.
55146 | NuFarm Americas, Inc., AGT Division, 4020 Aerial Center Pkwy., Suite 101, Morrisville, NC 27560.
62719 | Dow AgroSciences, LLC, 9330 Zionsville Road, Indianapolis, IN 46268.
64405 | Nisus Corporation, Attn: Regulatory Affairs, 100 Nisus Drive, Rockford, TN 37853-3069.
66570 | Activon, Inc., Agent Name: Scientific & Regulatory Consultants, Inc., 201 W. Van Buren Street, Columbia City, IN 46725.
67543 | International Paint, LLC, 6001 Antoine Drive, Houston, TX 77091.
70506 | UPL NA, Inc., 630 Freedom Business Center, Suite 402, King of Prussia, PA 19406.
70644 | Lidochem, Inc., Agent Name: RegWest Company, LLC, 8209 West 20th Street, Suite B, Greeley, CO 80634-4699.
75801 | Turf Science Laboratories, Inc., International Pest & Vegetative Management, P.O. Box 462785, Escondido, CA 92046
87290 | Willowood, LLC, c/o Generic Crop Science, LLC, 1887 Whitney Messa Drive, #9740, Henderson, NV 89014-2069.
94483 | LMENT, LLC, Agent Name: Wagner Regulatory Associates, Inc., 7217 Lancaster Pike, Suite A, P.O. Box 640, Hockessin, DE 19707-0640.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Table 1 and Table 2 of Unit II.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing all other products identified in Table 1 of Unit II, except for export consistent with FIFRA section 17 (7 U.S.C. 136o) or for proper disposal.

Once EPA has approved product labels reflecting the requested amendment to terminate uses, identified in Table 2 of Unit II, registrants will be permitted to sell or distribute products under the previously approved labeling for a period of 18-months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: November 25, 2020.
Marietta Echeverria,
Acting Director, Registration Division, Office of Pesticide Programs.

[FR Doc. 2021-02721 Filed 2-9-21; 8:45 am]

BILLING CODE 6560-50-P